DEPARTMENT OF COMMERCE

National Oceanic and Atmospheric Administration

RIN 0648-XE508

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet in Anchorage, AK.

DATES: The meetings will be held April 4, 2016 through April 12, 2016. See SUPPLEMENTARY INFORMATION for specific dates and times.

ADDRESSES: The meetings will be held at the Anchorage Hilton Hotel, 500 W. 3rd Ave., Anchorage, AK 99501. The Ecosystem Committee will meet in the Old Federal Bldg., 605 W. 4th Ave., Room 205, Anchorage, AK 99501.

Council address: North Pacific Fishery Management Council, 605 W. 4th Ave., Suite 306, Anchorage, AK 99501-2252; telephone: (907) 271-2809.

FOR FURTHER INFORMATION CONTACT: David Witherell, Council staff; telephone: (907) 271-2809.

SUPPLEMENTARY INFORMATION: The Council will begin its plenary session at 8 a.m. in the Aleutian Room on Wednesday, April 6, continuing through Tuesday, April 12, 2016. The Scientific and Statistical Committee (SSC) will begin at 8 a.m. in the King Salmon/Iliamna Room on Monday, April 4 and continue through Wednesday, April 6, 2016. The Council's Advisory Panel (AP) will begin at 8 a.m. in the Dillingham/Katmai Room on Tuesday, April 5, and continue through Saturday April 9, 2016. The Recreational Quota Entity Committee (RQE) will meet on Tuesday, April 5, 2016 (room and time to be determined). The Ecosystem Committee will meet on Monday, April 4, 2016, from 9:30 a.m. to 5 p.m. The Legislative Committee will tentatively meet on Tuesday, April 5, 2016 (room and time to be determined). The Halibut Management Committee will tentatively meet on Monday, April 4, 2016, from 1 p.m. to 5 p.m. (room to be determined).

Agenda

Monday, April 4, 2016 Through Tuesday, April 12, 2016

Council Plenary Session: The agenda for the Council's plenary session will include the following issues. The Council may take appropriate action on any of the issues identified.

1. Executive Director's Report

2. NMFS Management Report (including report on fishery overlap with Pribilof corals)

3. ADF&G Report

4. USCG Report

5. USFWS Report

6. Protected Species Report

7. NIOSH Report

8. Scallop SAFE and catch limits: Plan team report; set OFL/ABC limits

9. Co-op reports (AFA, AM 80, GOA Rockfish, BSAI Crab including PNCIAC report)

10. Pollock ICA/IPA reports and SeaShare update (T)

11. Salmon genetics data update and spatial/temporal refinement: Discussion paper

12. AI groundfish offshore sector: Discussion paper on limited access and Pacific cod A/B season split

13. BSAI Halibut Abundance-Based PSC Limit: Discussion paper

14. Halibut DMR methodology: Discussion paper

15. Halibut Management: Receive Committee report; update on Framework; update on MSE process (MSE Council only)

16. Charter Halibut RQE: Initial Review

17. EFH 5-Year Review: Review Draft Report; Ecosystem Committee report

18. Groundfish Policy and Workplan: Review management objectives

19. Staff Tasking

The Advisory Panel will address most of the same agenda issues as the Council except B reports.

The SSC agenda will include the following issues:

1. Scallop SAFE and catch limits: Plan team report; set OFL/ABC limits

2. BSAI Halibut Abundance-Based PSC Limit: Discussion paper

3. Halibut DMR methodology: Discussion paper

4. Charter Halibut RQE: Initial Review

5. EFH 5-Year Review: Review Draft Report; Ecosystem Committee report

6. Salmon genetics data update and spatial/temporal refinement: Discussion paper

In addition to providing ongoing scientific advice for fishery management decisions, the SSC functions as the Council's primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org/.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Shannon Gleason at (907) 271-2809 at least 7 working days prior to the meeting date.

Dated: March 15, 2016.
Jeffrey N. Lonergan,
Acting Deputy Director, Office of Sustainable Fisheries, National Marine Fisheries Service.

[FR Doc. 2016-06217 Filed 3-18-16; 8:45 am]

BILLING CODE 3510-22-P